DEPARTMENT OF ENERGY

Western Area Power Administration

Sundance Energy Project

AGENCY: Western Area Power Administration, DOE.

ACTION: Notice of public scoping meeting on the Sundance Energy Project environmental impact statement (EIS).

SUMMARY: The Western Area Power Administration (Western) is holding a public scoping meeting public on the proposed Sundance Energy Project, Pinal County, Arizona. The scoping process includes notifying the general public and Federal, State, local, and tribal agencies of the proposed action. The purpose of the scoping meeting is to identify public and agency concerns and alternatives to be considered in the EIS.

One informal public scoping meeting has been scheduled for October 18, 2000, starting at 7 p.m. at Coolidge Unified School District Auditorium. This meeting has been advertised in local newspapers.

DATES: Comments on the scope of the EIS for the proposed transmission interconnection and electric generating facility must be received by October 31, 2000, to be considered in the EIS.

ADDRESSES: Coolidge Unified School District Auditorium, 800 West Northern Avenue, Coolidge, AZ 85228. Written comments may be hand-delivered, mailed, e-mailed, or faxed to Mr. John Holt, NEPA Compliance Officer, Desert Southwest Customer Service Region, Western Area Power Administration, P.O. Box 6457, Phoenix, AZ 85005-6457, telephone (602) 352-2592, fax (602) 352-2780 or (602) 352-2956, e-mail holt@wapa.gov. All documentation developed or retained by Western during the course of this public process will be available for inspection and copying at this address.

FOR FURTHER INFORMATION CONTACT: Mr. John Holt, NEPA Compliance Officer, Desert Southwest Customer Service Region, Western Area Power Administration, P.O. Box 6457, Phoenix, AZ 85005-6457, telephone (602) 352-2592, fax (602) 352-2956, e-mail holt@;wapa.gov.

Mr. John Bridges, NEPA Document Manager, Corporate Services Office, Western Area Power Administration, P.O. Box 281213, Lakewood, CO 80228-8213, telephone (720) 962-7255, fax (720) 962-7263, e-mail bridges@wapa.gov.

For general information on the U.S. Department of Energy's National Environmental Policy Act (NEPA) review procedures or status of a NEPA review contact Ms. Carol M. Borgstrom, Director, Office of NEPA Policy and Compliance, EH-42, U.S. Department of Energy, 1000 Independence Avenue SW., Washington, DC 20585, telephone (202) 586-4600 or (800) 472-2756.

SUPPLEMENTARY INFORMATION: Western intends to prepare an EIS regarding the proposal by PPL Global to construct an electric generating facility on private property and to interconnect this facility with an existing Western transmission line and Western's grid in the vicinity of Coolidge, Arizona. Two 4.5-mile long transmission lines would connect the proposed power generating facility with a point of interconnection on Western's Liberty-Coolidge 230 kilovolt (kV) transmission line west of Coolidge. In addition, a 1.5 mile, 230-kV transmission line would connect the powerplant with Western's Signal Substation. An existing 115-kV transmission line from Signal Substation would be upgraded to 230-kV and other work inside Signal Substation would be required.

PPL Global proposes to construct the Sundance Energy Project on private lands in Pinal County, approximately 5 miles southwest of Coolidge, Arizona. The Project would be a nonutility merchant plant that would sell power during peak demand periods to wholesale-only contract or spot market customers. All economic costs of the project will be born by PPL Global.

The Project would consist of a nominal 600-megawatt natural gas-fired simple-cycle peaking facility and on-site supporting infrastructure including: an administration building, warehouse storage, water treatment facilities, inlet air cooling system to optimize inlet air combustion, gas conditioning equipment, and new on-site access roads. The Project would be designed to operate primarily during on-peak hours. The Project's water consumption would be about 600 acre/feet per year. The water source would be excess Central Arizona Project water delivered through an existing irrigation canal at the site, a new groundwater well, or a combination of both. The generating facility and infrastructure would occupy less than 40 acres of a 280-acre parcel of rural property controlled by PPL Global. Additional proposed on-site facilities would include an interconnection with an existing natural gas transmission pipeline that runs through the Project property and the construction of 14 miles of natural gas pipeline to connect with another existing natural gas transmission pipeline southwest of the proposed powerplant.

The Project would entail construction of new 230-kV transmission lines and the upgrade of Western's existing Signal-Coolidge 115-kV transmission line to 230-kV to interconnect with Western's existing Liberty-Coolidge 230-kV transmission line.

Because of the potential for incorporating new generation into Western's system, and the proposed interconnections with the existing system, Western has determined it must prepare an EIS in accordance with the U.S. Department of Energy's (DOE) NEPA Implementing Procedures found at 10 CFR 1021, Appendix D6 to Subpart D. Although State and local agencies are responsible for the siting and permitting of the proposed electric generating facility, the EIS will include the analysis of effects from construction and operation of the generating facility as part of the proposed action.

The EIS will be prepared in accordance with the requirement of NEPA and DOE's NEPA Implementing Procedures in conjunction with the Council on Environmental Quality regulations. Full public participation and disclosure are planned for the entire EIS process. Western anticipates the EIS process will take about 15 months. It will include public information/scoping meetings; coordination and involvement with appropriate Federal, State, local, and tribal governments; public review and hearing on the published draft EIS; a published final EIS; and a Record of Decision (ROD). Publication of the ROD is anticipated in the fall of 2001.

Dated: September 29, 2000.
Michael S. Hacskaylo,
Administrator.

[FR Doc. 00-26458 Filed 10-13-00; 8:45 am]

BILLING CODE 6450-01-P